DEPARTMENT OF VETERANS AFFAIRS

Special Medical Advisory Group, Notice of Meeting

The Department of Veterans Affairs (VA) gives notice under the Federal Advisory Committee Act, 5 U.S.C. 10, that the Special Medical Advisory Group (the Committee) will meet on Thursday, April 20, 2023, from 9 a.m. to 3:30 p.m. Eastern Standard Time (EST), at the Board of Veterans Appeals, 425 I St. NW (Conference Room 4E.400) in Washington, DC 20001. Members of the Committee may join in person or virtually. The public may attend virtual and in person. Limited public stakeholder seating will be made available due to on-going safety/health protocols in place in the meeting location.

The meeting is open to the public, except when the Committee is discussing Electronic Health Record Modernization (EHRM) updates between 9:30 a.m. ET-11:30 p.m. EST. The EHRM updates discussion is closed in accordance with 5 U.S.C. 552(c)(2)(4). Any related presentation material will not be available to the public.

The purpose of the Committee is to advise the Secretary of Veterans Affairs and the Under Secretary for Health on the care and treatment of Veterans, and other matters pertinent to the Veterans Health Administration.

On April 20, 2023, in addition to EHRM updates, the agenda for the meeting will include discussions on clinical practice management optimization best practices, partnering with the community to enroll Veterans in care in support of the PACT Act and cancer moonshot from a health equity perspective.

The meeting can be joined by phone at 404-397-1596 (Access code: 27601528045) and via Webex at: https://veteransaffairs.webex.com/veteransaffairs/j.php?MTID=m0d7a095d00079c9b038bdace87060c3d. Please contact the point of contact below for assistance connecting.

Members of the public may submit written statements for review by the Committee to: Department of Veterans Affairs, Special Medical Advisory Group—Office of Under Secretary for Health (10), Veterans Health Administration, 810 Vermont Ave. NW, Washington, DC 20420 or by email at VASMAGDFO@va.gov. Comments will be accepted until close of business on Tuesday, April 18, 2023.

Any member of the public wishing to attend the meeting or seeking additional information should email VASMAGDFO@va.gov or call 202-461-7000.

Dated: March 14, 2023.
Jelessa M. Burney,
Federal Advisory Committee Management Officer.

[FR Doc. 2023-05554 Filed 3-17-23; 8:45 am]

BILLING CODE P